DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 80 FR 58479-58485, dated September 29, 2015) is amended to reflect the reorganization of the National Center for Immunization and Respiratory Diseases, and the Office of Infectious Diseases, Centers for Disease Control and Prevention.

Section C-B, Organization and Functions, is hereby amended as follows:

Delete in its entirety the title and function statements for the Influenza Coordination Unit (CVA4).

Delete in its entirety the title and function statements for the National Center for Immunization and Respiratory Diseases (CVG) and insert the following:

National Center for Immunization and Respiratory Diseases (CVG). The National Center for Immunization and Respiratory Diseases (NCIRD) prevents disease, disability, and death through immunization and by control of respiratory and related diseases. In carrying out its mission, NCIRD: (1) Provides leadership, expertise, and service in laboratory and epidemiological sciences, and in immunization program delivery; (2) conducts applied research on disease prevention and control; (3) translates research findings into public health policies and practices; (4) provides diagnostic and reference laboratory services to relevant partners; (5) conducts surveillance and research to determine disease distribution, determinants, and burden nationally and internationally; (6) responds to disease outbreaks domestically and abroad; (7) ensures that public health decisions are made objectively and based upon the highest quality of scientific data; (8) provides technical expertise, education, and training to domestic and international partners; (9) provides leadership to internal and external partners for establishing and maintaining immunization, and other prevention and control programs; (10) develops, implements, and evaluates domestic and international public health policies; (11) communicates information to increase awareness, knowledge, and understanding of public health issues domestically and internationally, and to promote effective immunization programs; (12) aligns the national center focus with the overall strategic goals of CDC; (13) synchronizes all aspects of CDC's pandemic influenza preparedness and response from strategy through implementation and evaluation; and (14) implements, coordinates, and evaluates programs across NCIRD, Office of Infectious Diseases (OID), and CDC to optimize public health impact.

Delete in its entirety the title and function statements for the Office of Laboratory Science (CVG14).

After the Office of Science and Integrated Programs (CVG17) insert the following:

Influenza Coordination Unit (CVG18). The mission of the Influenza Coordination Unit (ICU) is to synchronize all aspects of CDC's pandemic influenza preparedness and response from strategy through implementation and evaluation. In carrying out its mission, the ICU: (1) Serves as the principal advisor to the CDC Director on pandemic influenza preparedness and response activities, assisting the Director in formulating and communicating strategic pandemic initiatives and policies; (2) provides strategic leadership for CDC in the areas of pandemic preparedness and response, including setting priorities and promoting science, policies, and programs related to pandemic influenza; (3) strategically manages a budget and allocates funds across the agency to ensure appropriate resources for high priority areas; and (4) conducts ongoing evaluation and adjustment of pandemic preparedness and response activities, in coordination with the National Response Framework and other emergency preparedness guidance, to ensure optimal public health effectiveness and efficient use of human and fiscal resources by developing and leading an exercise program for the Agency, in collaboration with HHS and other partners.

James Seligman,
Acting Chief Operating Officer, Centers for Disease Control and Prevention.

[FR Doc. 2015-29282 Filed 11-16-15; 8:45 am]

BILLING CODE 4163-18-P